POSTAL SERVICE

39 CFR Part 956

Rules of Practice in Proceedings Relative to Disciplinary Action for Violations of Restrictions on Post-Employment Activity

AGENCY: Postal Service.

ACTION: Final rule.

SUMMARY: The Postal Service is removing the Rules of Practice in Proceedings Relative to Disciplinary Action for Violations of Restrictions on Post-Employment Activity.

DATES: Effective Date: March 11, 2008.

FOR FURTHER INFORMATION CONTACT: Diane M. Mego, (703) 812-1905.

SUPPLEMENTARY INFORMATION: The Postal Service is removing the Rules of Practice in Proceedings Relative to Disciplinary Action for Violations of Restrictions on Post-Employment Activity. These provisions have been superseded by the Standards of Ethical Conduct for Employees of the Executive Branch issued by the Office of Government Ethics. This revision is a mandated charge in the agency rules of procedure before the Judicial Officer and, therefore, it is appropriate for its adoption by the Postal Service to become effective immediately.

Accordingly, the Postal Service removes and reserves 39 CFR part 956 as set forth below:

PART 956—[REMOVED AND RESERVED]

1. Remove and reserve Part 956.

Stanley F. Mires,
Chief Counsel, Legislative.

[FR Doc. 08-946 Filed 3-10-08; 8:45 am]

BILLING CODE 7710-12-M